DEPARTMENT OF THE TREASURY

Office of Thrift Supervision

[Docket ID OTS-2010-0033]

Mutual Savings Association Advisory Committee

AGENCY: Department of the Treasury, Office of Thrift Supervision.

ACTION: Notice.

SUMMARY: The Acting Director of the Office of Thrift Supervision has determined that the renewal of the Charter of the OTS Mutual Savings Association Advisory Committee is necessary and in the public interest in order to study the needs of and challenges facing mutual savings associations.

DATES: The Charter of the OTS Mutual Savings Association Advisory Committee will renew for a two-year period beginning November 23, 2010.

FOR FURTHER INFORMATION CONTACT: Charlotte M. Bahin, Designated Federal Official, (202) 906-6452, Office of Thrift Supervision, 1700 G Street, NW., Washington, DC 20552.

SUPPLEMENTARY INFORMATION: Notice is hereby given under Section 10(a)(2) of the Federal Committee Act, 5 U.S.C. App. (1988), and with the approval of the Secretary of the Treasury, of the announcement of the renewal of the OTS Mutual Savings Association Advisory Committee (MSAAC) . The Acting Director of the Office of Thrift Supervision (OTS) has determined that the renewal of the Charter of the OTS Mutual Savings Association Advisory Committee is necessary and in the public interest. The Committee will advise OTS on ways to meet the goals established by section 5(a) of the Home Owners Loan Act (HOLA), 12 U.S.C. 1464. The MSAAC will advise the Acting Director with regard to mutual associations on means to: (1) Provide for the organization, incorporation, examination, operation and regulation of associations to be known as Federal savings associations (including Federal savings banks); and (2) issue charters therefore, giving primary consideration of the best practices of thrift institutions in the United States. The Mutual Savings Association Advisory Committee will help meet those goals by providing OTS with informed advice and recommendations regarding the current and future circumstances and needs of mutual savings associations.

Dated: December 3, 2010.
By the Office of Thrift Supervision.
Deborah Dakin,
Acting Chief Counsel.

[FR Doc. 2010-31021 Filed 12-9-10; 8:45 am]

BILLING CODE 6720-01-P